DEPARTMENT OF ENERGY

Federal Energy Regulatory Commission

Combined Notice of Filings #2

Take notice that the Commission received the following electric rate filings:

Docket Numbers: ER12-678-007.

Applicants: Midcontinent Independent System Operator, Inc.

Description: Compliance filing: 2015-11-16_VLR RSG Compliance Filing to be effective 9/1/2012.

Filed Date: 11/16/15.

Accession Number: 20151116-5161.

Comments Due: 5 p.m. ET 12/7/15.

Docket Numbers: ER16-331-000.

Applicants: Alabama Power Company.

Description: Compliance filing: Compliance Filing for Docket Nos. ER15-1950 and ER15-2564 to be effective 11/17/2015.

Filed Date: 11/16/15.

Accession Number: 20151116-5081.

Comments Due: 5 p.m. ET 12/7/15.

Docket Numbers: ER16-332-000.

Applicants: PJM Interconnection, L.L.C.

Description: Informational Filing Pursuant to Schedule 2 of the PJM Interconnection, L.L.C. Open-Access Transmission Tariff, of C.P. Crane LLC.

Filed Date: 11/4/15.

Accession Number: 20151104-5258.

Comments Due: 5 p.m. ET 11/25/15.

Docket Numbers: ER16-333-000.

Applicants: PJM Interconnection, L.L.C.

Description: § 205(d) Rate Filing: Revisions to the RAA Schedule 8.1 re: FRR Requirements to be effective 1/16/2016.

Filed Date: 11/16/15.

Accession Number: 20151116-5092.

Comments Due: 5 p.m. ET 12/7/15.

Docket Numbers: ER16-334-000.

Applicants: Midcontinent Independent System Operator, Inc.

Description: § 205(d) Rate Filing: 2015-11-16_SA 2868 NSP Briggs Road-N. Madison T-TIA to be effective 10/30/2015.

Filed Date: 11/16/15.

Accession Number: 20151116-5154.

Comments Due: 5 p.m. ET 12/7/15.

Docket Numbers: ER16-335-000.

Applicants: Startrans IO, LLC.

Description: § 205(d) Rate Filing: 2016 TRBAA Update Filing to be effective 1/1/2016.

Filed Date: 11/16/15.

Accession Number: 20151116-5162.

Comments Due: 5 p.m. ET 12/7/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2015.
Nathaniel J. Davis, Sr.,
Deputy Secretary.

[FR Doc. 2015-29759 Filed 11-20-15; 8:45 am]

BILLING CODE 6717-01-P